DEPARTMENT OF ENERGY

Office of Energy Efficiency and Renewable Energy

10 CFR Part 430

[Docket No. EERE-2007-BT-STD-0010]

RIN 1904-AA89

Energy Efficiency Program for Certain Commercial and Industrial Equipment: Public Meeting and Availability of the Framework Document for Residential Clothes Dryers and Room Air Conditioners

AGENCY: Office of Energy Efficiency and Renewable Energy, Department of Energy.

ACTION: Notice of public meeting and availability of the Framework Document.

SUMMARY: The Department of Energy (DOE or Department) is initiating the rulemaking and data collection process that could result in the establishment of amended energy conservation standards for residential clothes dryers and room air conditioners. Accordingly, the Department will hold an informal public meeting to discuss and receive comments on issues it will address in this rulemaking proceeding. The Department also encourages written comments on these subjects. To inform stakeholders and facilitate this process, DOE has prepared a Framework Document, which is available at: http://www.eere.energy.gov/buildings/appliance_standards/.

DATES: The Department will hold a public meeting on Wednesday, October 24, 2007, from 9 a.m. to 5 p.m. in Washington, DC. Any person requesting to speak at the public meeting should submit such request along with a signed original and an electronic copy of statements to be given at the public meeting before 4 p.m., Tuesday, October 17, 2007. Written comments are welcome, especially following the public meeting, and should be submitted by Tuesday, November 6, 2007.

ADDRESSES: The public meeting will be held at the Holiday Inn Capitol, located at 550 C Street, SW., in Washington, DC 20024.

Stakeholders may submit comments, identified by docket number EERE-2007-BT-STD-0010 and/or RIN number 1904-AA89, by any of the following methods.

• Federal eRulemaking Portal:http://www.regulations.gov. Follow the instructions for submitting comments.

• E-mail: home_appliance2.rulemaking@ee.doe.gov. Include EERE-2007-BT-STD-0010 and/or RIN 1904-AA89 in the subject line of the message.

• Mail: Ms. Brenda Edwards-Jones, U.S. Department of Energy, Building Technologies Program, Mailstop EE-2J, Framework Document for Home Appliance Products, EERE-2007-BT-STD-0010 and/or RIN 1904-AA89, 1000 Independence Avenue, SW., Washington, DC 20585-0121. Please submit one signed paper original.

• Hand Delivery/Courier: Ms. Brenda Edwards-Jones, U.S. Department of Energy, Building Technologies Program, Room 1J-018, 1000 Independence Avenue, SW., Washington, DC 20585-0121. Telephone: (202) 586-2945. Please submit one signed paper original.

Instructions: All submissions received must include the agency name and docket number or Regulation Identifier Number (RIN) for this rulemaking.

Docket: For access to the docket to read background documents, a copy of the transcript of the public meeting, or comments received, go to the U.S. Department of Energy, Forrestal Building, Room 1J-018 (Resource Room of the Building Technologies Program), 1000 Independence Avenue, SW., Washington, DC 20585-0121, (202) 586-9127, between 9 a.m. and 4 p.m., Monday through Friday, except Federal holidays. Please call Ms. Brenda Edwards-Jones at the above telephone number for additional information regarding visiting the Resource Room. Please note that the Department's Freedom of Information Reading Room (Room 1E-190 at the Forrestal Building) is no longer housing rulemaking materials.

FOR FURTHER INFORMATION CONTACT: Stephen Witkowski, U.S. Department of Energy, Office of Energy Efficiency and Renewable Energy, Building Technologies, EE-2J, 1000 Independence Avenue, SW., Washington, DC 20585-0121. Telephone: (202) 586-7463. E-mail: Stephen.Witkowski@ee.doe.gov.

Francine Pinto or Eric Stas, U.S. Department of Energy, Office of the General Counsel, GC-72, 1000 Independence Avenue, SW., Washington, DC 20585-0121. Telephone: (202) 586-9507. E-mail: Francine.Pinto@hq.doe.gov or Eric.Stas@hq.doe.gov.

Regarding the public meeting, Brenda Edwards-Jones, U.S. Department of Energy, Building Technologies Program, Room 1J-018, 1000 Independence Avenue, SW., Washington, DC 20585. Telephone: (202) 586-2945. E-mail: Brenda.Edwards-Jones@ee.doe.gov.

SUPPLEMENTARY INFORMATION: Part B of Title III of the Energy Policy and Conservation Act of 1975 (EPCA), established an energy conservation program for major household appliances, which includes residential clothes dryers and room air conditioners. (42 U.S.C. 6291 et seq.) This program authorizes the Secretary of Energy (the Secretary) to establish energy conservation standards that are technologically feasible and economically justified, and would result in significant energy savings. (42 U.S.C. 6295(o)) Amendments to EPCA in the National Appliance Energy Conservation Act of 1987 (Pub. L. No. 100-12; NAECA) established prescriptive energy conservation standards for residential clothes dryers, initial energy conservation standards for room air conditioners, as well as requirements for determining whether these standards should be amended. (42 U.S.C. 6295(c) and (g))

The prescriptive standards for residential clothes dryers in EPCA, as amended, required that gas clothes dryers shall not be equipped with a constant burning pilot, and EPCA further required that DOE conduct two cycles of rulemakings to determine if more stringent standards are justified. (42 U.S.C. 6295(g)(3) and (4)) On May 14, 1991, DOE published a final rule in the Federal Register establishing the first set of performance standards for residential clothes dryers; the new standards became effective on May 14, 1994. 56 FR 22250. Subsequently, the Department initiated a second standards rulemaking for residential clothes dryers by publishing an advance notice of proposed rulemaking (ANOPR) in the Federal Register on November 14, 1994. 59 FR 56423. However, pursuant to the priority-setting process outlined in the July 15, 1996, Procedures for Consideration of New or Revised Energy Conservation Standards for Consumer Products ¹ (the “Process Rule”), DOE classified the standards rulemaking for residential clothes dryers as a low priority for its fiscal year 1998 priority-setting process. As a result, DOE suspended the standards rulemaking for residential clothes dryers.

¹ 61 FR 36974 (July 15, 1996) (establishing 10 CFR Part 430, Subpart C, Appendix A).

For room air conditioners, EPCA, as amended, established initial standards, and the statute also directed the Secretary to conduct two cycles of rulemakings to determine if more stringent standards are justified. (42 U.S.C. 6295(c)(1) and (2)) DOE initially analyzed standards for room air conditioners as part of an eight-product standards rulemaking. It issued a notice of proposed rulemaking (NOPR) on March 4, 1994, which, in part, proposed performance standards for room air conditioners. 59 FR 10464. As a result of the 1996 Process Rule, DOE suspended activities to finalize standards for room air conditioners. DOE subsequently resumed its rulemaking activities and refined its standards analysis of room air conditioners by taking into consideration comments from interested parties and analyzing additional candidate standard levels. On January 29, 1997, the Department published a notice announcing the availability of the supplemental analysis and reopening the record to include additional public comment, and that document also indicated of the standard levels the Department was inclined to promulgate in the final rule. 62 FR 4200. DOE issued a final rule revising the energy conservation standards for room air conditioners on September 24, 1997, with an effective date of October 1, 2000. 62 FR 50122.

To resume the rulemaking process for residential clothes dryers and to begin the required second cycle of the rulemaking process for room air conditioners, the Department prepared a Framework Document to explain the issues, analyses, and process it anticipates using for the development of energy efficiency standards for residential clothes dryers and room air conditioners. The focus of the public meeting will be to discuss the analyses and issues contained in various sections of the Framework Document. During the Department's presentation to stakeholders, the Department will discuss each item listed in the Framework Document as an issue for comment. In addition, the Department will also make a brief presentation on the rulemaking process for these products. The Department encourages those who wish to participate in the public meeting to obtain the Framework Document and to be prepared to discuss its contents. A copy of the Framework Document is available at: http://www.eere.energy.gov/buildings/appliance_standards/. However, public meeting participants need not limit their discussions to the topics in the Framework Document. The Department is also interested in receiving views concerning other relevant issues that participants believe would affect energy conservation standards for these products. The Department also invites all interested parties, whether or not they participate in the public meeting, to submit in writing by Wednesday, October 3, 2007, comments and information on the matters addressed in the Framework Document and on other matters relevant to consideration of standards for residential clothes dryers and room air conditioners.

The public meeting will be conducted in an informal, facilitated, conference style. There shall be no discussion of proprietary information, costs or prices, market shares, or other commercial matters regulated by the U.S. antitrust laws. A court reporter will be present to prepare a transcript of the meeting.

After the public meeting and the expiration of the period for submitting written statements, the Department will begin collecting data, conducting the analyses as discussed at the public meeting, and reviewing the comments received.

Anyone who would like to participate in the public meeting, receive meeting materials, or be added to the DOE mailing list to receive future notices and information regarding residential clothes dryers and room air conditioners, should contact Ms. Brenda Edwards-Jones at (202) 586-2945.

Issued in Washington, DC, on October 3, 2007.
Alexander A. Karsner,
Assistant Secretary, Energy Efficiency and Renewable Energy.

[FR Doc. E7-19808 Filed 10-5-07; 8:45 am]

BILLING CODE 6450-01-P